DEPARTMENT OF ENERGY

Federal Energy Regulatory Commission

[Docket Nos. ER97-1417-000, et al.]

TransCanada Energy, Ltd., Inc. et al.; Electric Rate and Corporate Filings

March 6, 2006.

The following filings have been made with the Commission. The filings are listed in ascending order within each docket classification.

1. TransCanada Energy Ltd.

[Docket No. ER97-1417-003]

Take notice that on March 2, 2006, TransCanada Energy Ltd. (TCE) filed proposed revisions to its Rate Schedule FERC No. 1 pursuant to Order Nos. 652 and 614. TCE also updated its market-based rate schedule to reflect a change in name.

TCE requests a waiver of the requirements of Section 35.13 of the regulations on the basis that those requirements are not relevant to the instant filing.

Comment Date: 5 p.m. Eastern Time on March 13, 2006.

2. TransCanada Power Marketing Ltd.

[Docket No. ER98-564-009]

Take notice that on March 2, 2006, TransCanada Power Marketing Ltd. (TCPM) filed proposed revisions to its Rate Schedule FERC No. 1 (Rate Schedule) pursuant to Order Nos. 652 and 614.

TCPM requests a waiver of the requirements of Section 35.13 of the regulations on the basis that those requirements are not relevant to the instant filing.

Comment Date: 5 p.m. Eastern Time on March 13, 2006.

3. Orzunil I de Electricidad Limitada, OrPower, 4 Inc., Ormat Momotomo Power Company, Ormat Leyte Co., Ltd., OrTitlan Limitada

[Docket No. FC06-1-000]

Take notice that on February 28, 2006, Orzunil I de Electricidad Limitada, OrPower, 4 Inc., Ormat Momotomo Power Company, Ormat Leyte Co., Ltd., and OrTitlan Limitada filed its Notification of Foreign Utility Company Status pursuant to 18 CFR 366.7(a).

Comment Date: 5 p.m. Eastern Time on March 21, 2006.

4. Macquarie Bank Limited

[Docket No. FC06-2-000]

Take notice that on February 15, 2006, Macquarie Bank Limited (MBL) filed a Notification of Foreign Utility Company Status pursuant to 18 CFR 366.7(a) on behalf of its companies and their direct and indirect subsidiaries.

Comment Date: 5 p.m. Eastern Time on March 17, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E6-3540 Filed 3-13-06; 8:45 am]

BILLING CODE 6717-01-P